DEPARTMENT OF THE INTERIOR

National Park Service

[NPS-WASO-NRSS-EQD-SSB-21470; PPSESERON2, PPMRSNR1N.NM0000 (166)]

Information Collection Request Sent to the Office of Management and Budget (OMB) for Approval; Cape Lookout National Seashore Cultural Resource Values and Vulnerabilities Assessment

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB Control Number. However, under OMB regulations, we may continue to conduct or sponsor this information collection while it is pending at OMB.

DATES: To ensure that your comments on this ICR are considered, OMB must receive them on or before August 8, 2016.

ADDRESSES: Please direct all written comments on this ICR directly to the Office of Management and Budget (OMB) Office of Information and Regulatory Affairs, Attention: Desk Officer for the Department of the Interior, to OIRA_Submission@omb.eop.gov (email) or 202-395-5806 (fax); and identify your submission as 1024-CALOSURV. Please also send a copy of your comments to Phadrea Ponds, Information Collection Coordinator, National Park Service, 1201 Oakridge Drive, Fort Collins, CO 80525 (mail); or phadrea_ponds@nps.gov (email). Please reference Information Collection 1024-CALOSURV in the subject line.

FOR FURTHER INFORMATION CONTACT: Phadrea Ponds, Information Collection Coordinator, National Park Service, 1201 Oakridge Drive, Fort Collins, CO 80525 (mail); or phadrea_ponds@nps.gov (email). Please reference Information Collection 1024-CALOSURV in the subject line. You may also access this ICR at www.reginfo.gov.

I. Abstract

Managers of Cape Lookout National Seashore (CALO) are interested in identifying ways to reduce the risk of damage to coastal buildings and sensitive species from storm surge, sea level rise, and shoreline erosion anticipated over the next 20 to 30 years. Of specific interest to managers are contemporary cultural resource values and perceptions of cultural resource vulnerability and feasible adaptation strategies to sustain its cultural resources for future generations. The National Park Service will conduct a survey with members of CALO's partner organizations and cultural resource experts from federal and state agencies and nongovernmental organizations.

The collection will be used to understand the values these stakeholders place on cultural resources within the historic districts, and perceptions of strategies to adapt and respond to changes in cultural resource conditions from storms, flooding, and erosion. The information from this collection will provide NPS managers with information that can be used to prepare resource management planning documents.

II. Data

OMB Control Number: 1024—New.

Title: Cape Lookout National Seashore Cultural Resource Values and Vulnerabilities Assessment.

Type of Request: New collection.

Affected Public: Federal, state and local government and nongovernmental, members of partner organizations and academic faculty with cultural resource expertise in historic preservation.

Respondent Obligation: Voluntary.

Frequency of Collection: One time.

Estimated Number of Responses: 260.

Estimated Annual Burden Hours: 65 hours. We estimate the public reporting burden for The Partner Survey to be 15 minutes per response and 45 minutes per response for the Expert Survey. This includes the time for reviewing instructions and completing the survey.

Estimated Annual Reporting and Recordkeeping “Non-Hour Cost”: None.

III. Request for Comments

A notice was published in the Federal Register (80 FR 29334) on May 21, 2015 stating that we intended to request OMB approval of our information collection associated with the Cape Lookout National Seashore Cultural Resource Values and Vulnerabilities Assessment project. In this notice, we solicited public comment for 60 days ending June 8, 2015. We did not receive any comments in response to that notice.

We again invite comments concerning this information collection on:

• Whether the proposed collection of information is necessary for the agency to perform its duties, including whether the information is useful;

• The accuracy of the agency's estimate of the burden of the proposed collection of information;

• Ways to enhance the quality, usefulness, and clarity of the information to be collected; and

• Ways to minimize the burden on the respondents, including the use of automated collection techniques or other forms of information technology.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 1, 2016.
Madonna L. Baucum
Information Collection Clearance Officer, National Park Service.

[FR Doc. 2016-16209 Filed 7-7-16; 8:45 am]

BILLING CODE 4310-EH-P